DEPARTMENT OF DEFENSE

Department of the Army

Notice of Availability (NOA) of the Draft Environmental Impact Statement (DEIS) for Military Training Activities at Makua Military Reservation (MMR), HI

AGENCY: Department of the Army, DoD.

ACTION: Notice of availability.

SUMMARY: The Army proposes to conduct military training exercises at MMR, Oahu, Hawaii, for units assigned to the 25th Infantry Division (Light) (25th ID(L)) and for other military components. Other military components that have used MMR in the past include the Marine Corps, Army Reserves, and the Hawaii Army National Guard. Conducting live-fire exercises at the company level and below is critical to maintaining the readiness of all military units assigned or stationed in Hawaii in particular because training at the company level is one of the key building blocks in the Army's progressive training doctrine. Under this doctrine, Soldiers first train as smaller units and then train collectively as part of a large unit. In addition, the training received by a company commander during a company-level combined-arms live-fire exercise (CALFEX) is invaluable in teaching Soldiers the skills required to coordinate and integrate the combined arms support provided by aviation, artillery, mortar, and combat engineer support teams. These communication and coordination skills are essential when several companies combine as a battalion under the control of a battalion commander. The DEIS addresses, among other things, the potential direct, indirect, and cumulative environmental impacts associated with the proposal to conduct military training activities at MMR. The DEIS development process was conducted in accordance with the Settlement Agreement and Stipulated Order between Malama Makua and the Department of Defense (filed October 4, 2001).

DATES: Submit comments on or before September 21, 2005.

ADDRESSES: Direct questions and/or written comments to, or request a copy of the DEIS from Mr. Gary Shirakata, Programs and Project Management Division, U.S. Army Corps of Engineers, Honolulu District, ATTN: CEPOH-PP-E (Shirakata), Building 230, Fort Shafter, HI 96858-5440.

FOR FURTHER INFORMATION CONTACT: Mr. Gary Shirakata at (808) 438-0772; by e-mail at Makua-EIS@poh01.usace.army.mil; or by facsimile at (808) 438-7801.

SUPPLEMENTARY INFORMATION: The DEIS analyzes three alternatives to accomplish the proposed training on Oahu: Alternative 1 (Reduced Capacity Use with Some Weapons Restrictions), Alternative 2 (Full Capacity Use with Some Weapons Restrictions), Alternative 3 (Full Capacity Use with Fewer Restrictions). Alternative 3 is the Army's Preferred Alternative. A No Action Alternative, under which no military training would be conducted, also was evaluated.

For all alternatives (with the exception of No Action), MMR would be used for 242 training days per year. Alternative 1 (Reduced Capacity Use) involves conducting up to 19 to 28 company-level CALFEXs per year. Alternatives 2 and 3 (Full Capacity Use) involve conducting up to 50 company-level CALFEXs per year. Weapon systems used for all three training alternatives would be similar to those used during current training. In addition to the current weapons systems, Alternative 2 incorporates the use of tracer ammunition. Alternative 3 (Preferred Alternative) adds tracer ammunition; inert, tube-launched, opticallly-tracked, wire-guided (TOW) missiles; 2.75-caliber rockets; and illumination munitions. Alternative 3 also would include use of an expanded training area that would utilize the ridge between the north and south lobes of the training area.

Some of the major potential impacts discussed in the DEIS are associated with contamination of soil, surface water, and groundwater, air quality; cultural sites; natural resources; endangered and threatened species; noise; recreational resources; wildfires; and the safety and transport of munitions through the Waianae community.

Comments on the DEIS will be considered in preparing the Final EIS. Public meetings to receive comments on the DEIS will be held along the Waianae Coast, Oahu. Notification of the times and locations for the public meetings will be published in local newspapers and the Hawaii Office of Environmental Quality Control Bulletin.

Copies of the DEIS are available for review at the following libraries: Hawaii State Library, 478 South King Street, Honolulu; Wahiawa Public Library, 820 California Avenue, Wahiawa; Waianae Public Library, 85-625 Farrington Highway, Waianae; and the Pearl City Public Library, 1138 Waimano Home Road, Pearl City.

The DEIS may also be reviewed at the following Web site: http://www.makuaeis.com.

Dated: July 27, 2005.
Daphne Kennedy,
Acting Deputy Assistant Secretary of the Army (Environment, Safety and Occupational Health) OASA(I&E).

[FR Doc. 05-15277 Filed 8-2-05; 8:45 am]

BILLING CODE 3710-08-M